DEPARTMENT OF ENERGY

Federal Energy Regulatory Commission

Notice of Application for Transfer of License and Soliciting Comments, Motions to Intervene, and Protests

December 18, 2000.

Take notice that the following hydroelectric application has been filed with the Commission and is available for public inspection:

a. Application Type: Transfer of License

b. Project No.: 2487-010

c. Date Filed: December 11, 2000

d. Applicants: John M. Skorupski and Hydro Power, Inc.

e. Name of Project: Hoosick Falls

f. Location: The project is located on Hoosick River in Rensselaer County, New York. The project does not occupy federal or tribal lands.

g. Filed Pursuant to: Federal Power Act, 16 U.S.C. §§ 791(a)-825(r)

h. Applicant Contact: Paul V. Nolan, Esquire, 5515 North 17th Street, Arlington, Virginia 22205, Phone: (703) 534-5509; Fax: (703) 538-5257, E-Mail: PVNPVN@AOL.COM

i. FERC Contact: Any questions on this notice should be addressed to Tom Papsidero at (202) 219-2715.

j. Deadline for filing comments and or motions: January 19, 2001.

All documents (original and eight copies) should be filed with: David P. Boergers, Secretary, Federal Energy Regulatory Commission, 888 First Street, NE., Washington, DC 20426.

Please include the Project Number (2487-010) on any comments or motions filed.

k. Description of Transfer: John M. Skorupski (transferor), licensee of the Hoosick Falls Project, and Hydro Power, Inc. (transferee) jointly and severally apply for approval of the transfer of the project license to the transferee. The applicants state that the purpose of the transfer is to complete the transferor's withdrawal from the business of owning and operating hydroelectric projects. Further, the applicants maintain that the transfer will ensure that an entity with sufficient experience will be responsible for the continued operation of the project.

l. Locations of the Application: A copy of the application is available for inspection and reproduction at the Commission's Public Reference Room, located at 888 First Street, NE, Room 2A, Washington, DC 20426, or by calling (202) 208-1371. The application may be viewed on the web at www.ferc.fed.us/online/rims.htm. Call (202) 208-2222 for assistance. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filing must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Comments and protests may be filed electronically via the internet in lieu of paper. See, 18 CFR 385.2001(a)(1)(iii) and the instructions on the Commission's web site at http://www.ferc.fed.us/efi/doorbell.htm.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-32696 Filed 12-21-00; 8:45 am]

BILLING CODE 6717-01-M